EXECUTIVE OFFICE OF THE PRESIDENT

Privacy and Civil Liberties Oversight Board

6 CFR Chapter X

[Docket No. 0311-AA00]

Removal of 6 CFR Chapter X

AGENCY: Privacy and Civil Liberties Oversight Board, the White House.

ACTION: Removal of Regulations.

SUMMARY: The Privacy and Civil Liberties Oversight Board (PCLOB), the White House, is removing its Freedom of Information Act regulations currently published at 6 CFR Chapter X. This action is being taken because, pursuant to provisions of the Implementing Recommendations of the 9/11 Commission Act of 2007 (Pub. L. 110-53), PCLOB as it is currently constituted will be abolished no later than January 30, 2008 and replaced with a new independent agency within the Executive Branch. This new independent agency will be responsible for promulgating its own regulations.

EFFECTIVE DATE: January 30, 2008.

ADDRESSES: Privacy and Civil Liberties Oversight Board, The White House, Washington, DC 20502, (202) 456-1240. Mail security procedures may delay the delivery of mail. The fax number is: (202) 456-1066.

FOR FURTHER INFORMATION CONTACT: Mark A. Robbins, (202) 456-1065.

SUPPLEMENTARY INFORMATION: The Intelligence Reform and Terrorism Prevention Act (IRTPA) of 2004, Pub. L. 108-458 (IRTPA), established the PCLOB, at the recommendation of the 9/11 Commission. PCLOB is presently part of the White House Office and operates within the Executive Office of the President. It has a general responsibility to ensure that privacy and civil liberties are appropriately considered as part of the development and implementation of policies and programs designed to protect the Nation against terrorism. IRTPA subjected the Board to the Freedom of Information Act, 5 U.S.C. 552 (FOIA). IRTPA § 1061(i)(2). PCLOB promulgated regulations to implement FOIA which were published as interim final regulations in the Federal Register on April 10, 2007.

On August 3, 2007, the President signed into law the Implementing Recommendations of the 9/11 Commission Act of 2007 (Pub. L. 110-53). Among other things, this law abolishes the present Board no later than January 30, 2008 and replaces it with a new independent agency within the Executive Branch. This new entity will promulgate its own regulations consistent with its responsibilities.

Upon closure, the records of the present PCLOB will be transferred to the National Archives and Records Administration pursuant to the Federal Records Act (44 U.S.C. 3101) and will be available to interested members of the public consistent with the provisions of FOIA.

List of Subjects in 6 CFR Chapter X

Freedom of Information Act Procedures.

Accordingly, by the authority of the Intelligence Reform and Terrorism Prevention Act (IRTPA) of 2004, Pub. L. 108-458, the Privacy and Civil Liberties Oversight Board is removing 6 CFR Chapter X, in its entirety.

Mark A. Robbins,
Executive Director, Privacy and Civil Liberties Oversight Board.

[FR Doc. 07-5834 Filed 11-26-07; 8:45 am]

BILLING CODE 3195-W7-M